DEPARTMENT OF JUSTICE

[OMB Number 1122-0NEW]

Agency Information Collection Activities; Proposed eCollection eComments; Requested; New Collection; Data Collection for OVW Demonstration Program on Trauma-Informed, Victim-Centered Training for Law Enforcement on Domestic Violence, Dating Violence, Sexual Assault, and Stalking (Abby Honold) Program

AGENCY: Office on Violence Against Women, Department of Justice.

ACTION: 60-Day notice.

SUMMARY: The Department of Justice (DOJ), Office on Violence Against Women will be submitting the following information collection request to the Office of Management and Budget (OMB) for review and approval in accordance with the Paperwork Reduction Act of 1995.

DATES: Comments are encouraged and will be accepted for 60 days until October 22, 2024.

FOR FURTHER INFORMATION CONTACT: If you have additional comments especially on the estimated public burden or associated response time, suggestions, or need a copy of the proposed information collection instrument with instructions or additional information, please contact Cathy Poston, Office on Violence Against Women, at 202-514-5430 or Catherine.poston@usdoj.gov or United States Department of Justice, Office on Violence Against Women, 145 N Street NE, 4W-218, Washington, DC 20530.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Office on Violence Against Women Demonstration Program on Trauma-informed, Victim-centered Training for Law Enforcement on Domestic Violence, Dating Violence, Sexual Assault, and Stalking (Abby Honold Program) is authorized by 34 U.S.C § 12513. The program supports efforts to improve law enforcement's response to domestic violence, dating violence, sexual assault, and stalking by awarding grants to law enforcement agencies to train officers to conduct trauma-informed and victim-centered investigations. The planned information collection is a short survey about law enforcement officers' knowledge and skills. Grantees under the Abby Honold Program will be expected to offer the survey to training participants to take before and after training as a way to gauge whether, and the extent to which, the training increases participants' knowledge and skills related to conducting trauma-informed and victim centered investigations.

Overview of This Information Collection

1. Type of Information Collection: New collection.

2. The Title of the Form/Collection: Data Collection for OVW Demonstration Program on Trauma-informed, Victim-centered Training for Law Enforcement on Domestic Violence, Dating Violence, Sexual Assault, and Stalking (Abby Honold) Program.

3. The agency form number, if any, and the applicable component of the Department sponsoring the collection: Form Number: 1122-XXXX. U.S. Department of Justice, Office on Violence Against Women.

4. Affected public who will be asked or required to respond, as well as the obligation to respond: Affected Public—The affected public includes law enforcement officers trained by OVW grantees awarded OVW Demonstration Program on Trauma-informed, Victim-centered Training for Law Enforcement on Domestic Violence, Dating Violence, Sexual Assault, and Stalking (Abby Honold) Program grants.

5. An estimate of the total number of respondents and the amount of time estimated for an average respondent to respond: It is estimated that it will take the approximately 900 respondents, which includes law enforcement officers who are participating in OVW grantee-led training, approximately 10 minutes to complete a survey, and they will take the survey twice.

6. An estimate of the total annual burden (in hours) associated with the collection: The total annual hour burden to complete the data collection forms is 300 hours, that is 900 law enforcement officer participants taking a 10-minute survey twice (once before the training and once after).

7. An estimate of the total annual cost burden associated with the collection, if applicable:

Activity | Estimated number of respondents | Frequency | Total annual responses | Time per response (min.) | Total annual burden (hours)
Officer Training Pre and Post Survey | 900 | Twice per training session | 1,800 | 10 | 300

If additional information is required contact: Darwin Arceo, Department Clearance Officer, United States Department of Justice, Justice Management Division, Policy and Planning Staff, Two Constitution Square, 145 N Street NE, 4W-218, Washington, DC 20530.

Dated: August 19, 2024.
Darwin Arceo,
Department Clearance Officer for PRA, U.S. Department of Justice.

[FR Doc. 2024-18901 Filed 8-22-24; 8:45 am]

BILLING CODE 4410-FX-P